DEPARTMENT OF JUSTICE

Notice of Lodging of Consent Decree Under the Comprehensive Environmental Response, Compensation, and Liability Act of 1980 (“CERCLA”)

Notice is hereby given that on July 15, 2009, a proposed Consent Decree in United States v. Landia Chemical Company et al., Civil Action No. 8:09-cv-01325-VMC-TBM, was lodged with the United States District Court for the Middle District of Florida.

The Consent Decree resolves claims brought by the United States, on behalf of the United States Environmental Protection Agency (“EPA”), against seven parties (“Settling Defendants”) under Sections 106 and 107 of the Comprehensive Environmental Response, Compensation, and Liability Act, 42 U.S.C. 9606 and 9607. In its Complaint, filed concurrently with the Consent Decree, the United States sought injunctive relief in order to address the release or threatened release of hazardous substances at the Landia Chemical Company Site in Lakeland, Polk County, Florida, along with the recovery of costs the United States incurred for response activities undertaken at the Site.

Under the Consent Decree, the Settling Defendants—Landia Chemical Company, Inc.; Agrico Chemical Company; BASF Sparks LLC; PCS Joint Venture, Ltd.; Sylvite Terminal & Distribution LLC; Billy G. Mitchell; and Walter G. Grahn—will implement the remedy selected by EPA for the Site, including a final action to remediate soil contamination and an interim action to address groundwater contamination. The Consent Decree also requires the Settling Defendants to pay any future response costs above $796,454.46 incurred by the United States.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Landia Chemical Company, Inc. et al., D.J. Ref. No. 90-11-3-09147.

The Consent Decree may be examined at the Office of the United States Attorney, Middle District of Florida, 400 N. Tampa Street, Suite 3200, Tampa, FL 33602, and at U.S. EPA Region 4, 61 Forsyth Street, SW., Atlanta, Georgia, 30303. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $59.75 (25 cents per page reproduction cost) payable to the U.S. Treasury or, if by email or fax, forward a check in that amount to the Consent Decree Library at the stated address.

Maureen Katz,
Assistant Section Chief, Environmental Enforcement Section, Environment and Natural Resources Division.

[FR Doc. E9-17226 Filed 7-20-09; 8:45 am]

BILLING CODE 4410-15-P